DEPARTMENT OF AGRICULTURE

Submission for OMB Review; Comment Request

February 6, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by March 13, 2013 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Animal Health Reporting System (NAHRS).

OMB Control Number: 0579-0299.

Summary of Collection: The National Animal Health Reporting System (NAHRS) was developed through a cooperative effort between the United States Animal Health Association, the American Association of Veterinary Laboratory Diagnosticians, and the Animal and Plant Health Inspection Service (APHIS). NAHRS provides an ongoing national measure of the health status of the nation's livestock. The National Center for Animal Health Surveillance involvement in this voluntary monitoring activity is to facilitate standardization collection of this information throughout the United States and provide a central point for collating data provided by States into a single National report. The evolving international trade arena and increased competition have heightened the need to have accurate, timely information to maintain and increase U.S. animal agriculture's overseas market share, NAHRS provides information that helps meet this need.

Need and Use of the Information: The objective of the NAHRS is to collect data needed to report the presence of confirmed clinical disease in commercial livestock, poultry, and aquaculture species in the U.S. These reports are required for membership by the World Organization for Animal Health (OIE), and to meet international trade reporting requirements for animal health. The NAHRS collects monthly data from States veterinarians on the presence or absence of diseases reportable to the OIE within the U.S. Information collected is compiled and reported to the Agency where semi-annual reports are prepared for submission to the OIE. These reports are required by OIE and are needed to facilitate trade with foreign countries.

Description of Respondents: State, Local, or Tribal Government.

Number of Respondents: 52.

Frequency of Responses: Reporting: Annually.

Total Burden Hours: 4,992.

Animal and Plant Health Inspection Service

Title: Importation of Swine Hides, Bird Trophies, and Deer Hides.

OMB Control Number: 0579-0307.

Summary of Collection: The Animal Health Protection Act (AHPA) of 2002 is the primary Federal law governing the protection of animal health. The law gives the Secretary of Agriculture broad authority to detect, control, or eradicate pests or diseases of livestock or poultry. The AHPA is contained in Title X, Subtitle E, Sections 10401-18 of Public Law 107-171, May 13, 2002, the Farm Security and Rural Investment Act of 2002. The Animal and Plant Health Inspection Service (APHIS) protects the health of the U.S. livestock and poultry population. Title 9 of the Code of Federal Regulations, parts 91 through 99, governs the importation of animals, birds, and poultry, certain animal and poultry products; and animal germplasm. These regulations place certain restrictions on the importation of hides and bird trophies to prevent an incursion of foreign animal diseases into the United States.

Need and Use of the Information: APHIS will collect information from certificates and written statements, to ensure that bird trophies and certain animal hides pose a negligible risk of introducing African Swine Fever, Bovine Babesiosis, Exotic Newcastle Disease,

Foot-and Mouth Disease, Highly Pathogenic Avian Influenza, and Rinderpest into the United States. If this information is not collected, it would significantly hinder APHIS's ability to ensure that these commodities pose a minimal risk of introducing foreign animal diseases into the United States.

Description of Respondents: State, Local or Tribal Government; Business or other for-profit.

Number of Respondents: 191.

Frequency of Responses: Reporting; On occasion.

Total Burden Hours: 142.

Ruth Brown,
Departmental Information Collection Clearance Officer.

[FR Doc. 2013-03012 Filed 2-8-13; 8:45 am]

BILLING CODE 3410-34-P